GENERAL SERVICES ADMINISTRATION

[Notice-CIB-2012-01; Docket 2012-0002; Sequence 6]

Privacy Act of 1974; Notice of New System of Records

AGENCY: General Services Administration.

ACTION: Notice.

SUMMARY: GSA proposes to revise a system of records subject to the Privacy Act of 1974, as amended, 5 U.S.C. 552a.

DATES: Effective April 23, 2012.

FOR FURTHER INFORMATION CONTACT: Call or email the GSA Privacy Act Officer: telephone 202-208-1317; email gsa.privacyact@gsa.gov.

ADDRESSES: GSA Privacy Act Officer (CIB), General Services Administration, 1800 F Street NW., Washington, DC 20405.

SUPPLEMENTARY INFORMATION: GSA proposes to revise a system of records subject to the Privacy Act of 1974, 5 U.S.C. 552a. The system will provide for the collection of information to track and manage administrative matters, claims and litigation cases in the Office of General Counsel. The safeguards were changed to provide that access is limited to authorized individuals with passwords or keys. Electronic files are maintained behind a firewall, and paper files are stored in locked rooms or filing cabinets.

Dated: March 14, 2012.
Cheryl M. Paige,
Director, Office of Information Management.

SYSTEM NAME:

GSA/OGC-1 (Office of General Counsel Cases).

SYSTEM LOCATION:

The system is maintained electronically and in paper form in the Office of the General Counsel and the regional counsels' offices.

CATEGORIES OF INDIVIDUALS COVERED BY THE SYSTEM:

Individuals involved with administrative matters, claims or litigation with GSA. Individuals referenced in potential or actual cases and matters under the jurisdiction of the Office of General Counsel; and attorneys, paralegals, and other employees of the Office of General Counsel directly involved in these cases or matters.

CATEGORIES OF RECORDS IN THE SYSTEM:

The system contains information needed for administering and properly managing and resolving the cases in the Office of General Counsel. Records in this system pertain to a broad variety of administrative matters, claims and litigation under the jurisdiction of the Office of General Counsel including, but not limited to, torts, contract disputes, and employment matters. Records may include but are not limited to: name, social security number, home address, home phone number, email address, birth date, financial information, medical records, or employment records.

AUTHORITY FOR MAINTENANCE OF THE SYSTEM:

General authority to maintain the system is contained in 5 U.S.C. 301 and 44 U.S.C. 3101; the Federal Property and Administrative Services Act of 1949 (40 U.S.C. 501 et seq.); the Federal Tort Claims Act (28 U.S.C. 2671 et seq.); Claims (Chapter 37 of Title 31 of the U.S. Code).

PURPOSE:

Records are maintained for the purpose of litigating or resolving any case or administrative matter under consideration by the Office of General Counsel.

ROUTINE USES OF THE SYSTEM RECORDS, INCLUDING CATEGORIES OF USERS AND THEIR PURPOSES FOR USING THE SYSTEM.

In addition to the purpose for this system of records, information from this system also may be disclosed as a routine use:

a. In any legal proceeding, where pertinent, to which GSA, a GSA employee, or the United States is a party before a court or administrative body.

b. To a Federal, State, local, or foreign agency responsible for investigating, prosecuting, enforcing, or carrying out a statute, rule, regulation, or order when GSA becomes aware of a violation or potential violation of civil or criminal law or regulation, or to an agency, individual or organization, if there is reason to believe that such agency, individual or organization possesses information or is responsible for acquiring information relating to the investigation, trial or hearing and the dissemination is reasonably necessary to elicit such information or to obtain the cooperation of a witness or an informant.

c. To an appeal, grievance, hearing, or complaints examiner; an equal employment opportunity investigator, arbitrator, or mediator; and an exclusive representative or other person authorized to investigate or settle a grievance, complaint, or appeal filed by an individual who is the subject of the record.

d. To the Office of Personnel Management (OPM), the Office of Management and Budget (OMB), and the Government Accountability Office (GAO) in accordance with their responsibilities for evaluating Federal programs.

e. To a Member of Congress or his or her staff on behalf of and at the request of the individual who is the subject of the record.

f. To an expert, consultant, or contractor of GSA in the performance of a Federal duty to which the information is relevant.

g. To the National Archives and Records Administration (NARA) for records management purposes.

h. To appropriate agencies, entities, and persons when (1) the Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, AND RETAINING, AND DISPOSING OF SYSTEM RECORDS:

STORAGE:

Records are maintained in both paper and electronic form.

RETRIEVABILITY:

Records are retrievable based on any information captured, including but not limited to: name, case name, and social security number.

SAFEGUARDS:

Access is limited to authorized individuals with passwords or keys. Electronic files are maintained behind a firewall, and paper files are stored in locked rooms or filing cabinets.

RETENTION AND DISPOSAL:

System records are retained and disposed of according to GSA records maintenance and disposition schedules and the requirements of the National Archives and Records Administration.

SYSTEM MANAGER AND ADDRESS:

Office of General Counsel, General Services Administration, 1275 First Street, NE., Washington, DC 20417.

NOTIFICATION PROCEDURE:

Individuals wishing to inquire if the system contains information about them should contact the system manager at the above address.

RECORD ACCESS PROCEDURES:

Individuals wishing to access their own records should contact the system manager at the address above.

CONTESTING RECORD PROCEDURE:

Individuals wishing to amend their records should contact the system manager at the address above.

RECORD SOURCE CATEGORIES:

The sources for information in the system are data from other systems, information submitted by individuals or their representatives, information gathered from public sources, and information from other entities involved in the case.

[FR Doc. 2012-6839 Filed 3-21-12; 8:45 am]

BILLING CODE 6820-34-P